DEPARTMENT OF ENERGY

Federal Energy Regulatory Commission

[Docket No. OR17-14-000]

Tesoro Refining & Marketing Company LLC v. Frontier Aspen LLC; Notice of Complaint

Take notice that on June 15, 2017, pursuant to Rule 206 of the Federal Energy Regulatory Commission's (Commission) Rules of Practice and Procedure,¹ section 343.2 of the Procedural Rules Applicable to Oil Pipeline Proceedings,² and sections 1(4), 1(6), 2, 3(1), 6, 9, 13(1) and 15(1) of the Interstate Commerce Act,³ Tesoro Refining & Marketing Company LLC (Complainant) filed a formal complaint against Frontier Aspen LLC (Respondent) alleging that Respondent's pro rata walk-up prorationing policy and lack of an equalization factor are unjust, unreasonable and unduly discriminatory, all as more fully explained in the complaint.

¹ 18 CFR 385.206.

² 18 CFR 343.2.

³ 49 App. U.S.C. 1(4), 1(6), 3(1), 6(1), 6(3), 6(7), 9, 13(1), and 15(1) (1988).

Complainant states that a copy of the complaint was served on Respondent.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 17, 2017.

Dated: June 16, 2017.
Nathaniel J. Davis, Sr.,
Deputy Secretary.

[FR Doc. 2017-13091 Filed 6-22-17; 8:45 am]

BILLING CODE 6717-01-P